DEPARTMENT OF HEALTH AND HUMAN SERVICES

Centers for Disease Control and Prevention

Availability of Opportunity to Provide Input for the National Occupational Research Agenda

The National Institute for Occupational Safety and Health (NIOSH) of the Centers for Disease Control and Prevention (CDC) announces the following:

Availability of Opportunity for the Public to Provide Input for the National Occupational Research Agenda (NORA).

For the past nine years, NORA has served as a framework to guide occupational safety and health research in the nation. Approximately 500 participants outside NIOSH provided input into the development of the first agenda. Building on the success of NORA, the second decade of NORA will use a sector-based approach.

NIOSH and its partners under NORA are pleased to introduce a newly updated NORA Web site at http://www.cdc.gov/niosh/nora. An important feature of the updated page is an online feedback form. We hope both individuals and organizations will use this opportunity to submit comments and suggestions for guiding the design of future occupational safety and health research in the nation.

The Web site allows stakeholders to describe what they perceive to be the top research needs within each sector, sub-sector, or in multiple sectors. Stakeholders can submit comments on the approach to redesigning NORA as it enters its second decade. We invite partners and collaborators to use the electronic option to provide comments, which will automatically be entered into the NORA Docket maintained by NIOSH.

Experience gained in the first decade of NORA indicates that the following types of information may help identify the areas where new research will make the greatest contributions to preventing work-related injuries, illnesses, and deaths:

• Number of workers at risk

• Seriousness of the hazard

• Probability that new information and approaches will make a difference

Alternatively, comments may be e-mailed to NIOCINDOCKET@cdc.gov or mailed to: Docket NIOSH-047, Robert A. Taft Laboratories (C-34), 4676 Columbia Parkway, Cincinnati, OH 45226.

The public may also view the complete NORA Docket at this location.

Contact for Additional Information: noracoordinator@cdc.gov.

The Director, Management Analysis and Services Office, has been delegated the authority to sign Federal RegisterNotices pertaining to announcements of meetings and other committee management activities, for both the Centers for Disease Control and Prevention and the Agency for Toxic Substances and Disease Registry.

Dated: June 17, 2005.
Alvin Hall,
Director, Management Analysis and Services Office, Centers for Disease Control and Prevention.

[FR Doc. 05-12500 Filed 6-23-05; 8:45 am]

BILLING CODE 4163-18-P